ENVIRONMENTAL PROTECTION AGENCY

[FRL-9257-2]

A Method To Assess Climate-Relevant Decisions: Application in the Chesapeake Bay

AGENCY: Environmental Protection Agency (EPA).

ACTION: Notice of Peer Review Workshop.

SUMMARY: EPA is announcing that Eastern Research Group, Inc. (ERG), an EPA contractor for external scientific peer review, will convene an independent panel of experts and organize and conduct an external peer review workshop to review the external review draft document titled, “A Method to Assess Climate-Relevant Decisions: Application in the Chesapeake Bay” (EPA/600/R-10/096a). The draft document was prepared by EPA's National Center for Environmental Assessment (NCEA), which is situated in the Office of Research and Development.

EPA will forward public comments that were submitted in accordance with a previous notice (Federal Register Volume 75, Number 168 [Tuesday, August 31, 2010]) to the external peer-review panel for consideration prior to the meeting. When finalizing the draft document, EPA will consider any public comments that EPA received in accordance with the August 31, 2010 Federal Register Notice.

EPA released this draft document solely for the purpose of peer review under applicable information quality guidelines. This document has not been formally disseminated by EPA. It does not represent and should not be construed to represent any Agency policy or determination.

EPA invites the public to register and attend this workshop and to give oral and/or provide written comments of the draft document under review. The draft document and EPA's peer review charge are available via the Internet on NCEA's home page under the Recent Additions and the Data and Publications menus at http://www.epa.gov/ncea. In preparing a final report, EPA will consider the comments and recommendations from the external peer review workshop and any public comments received in accordance with this notice.

DATES: The peer review panel workshop will begin on Friday, March 11, 2011, at 8:30 a.m. and end at 4 p.m.

ADDRESSES: The peer review workshop will be held at The Navy League Building, 2300 Wilson Boulevard, Arlington, VA 22201. The EPA contractor, ERG, is organizing, convening, and conducting the peer review workshop. To attend the workshop, register by Friday, March 4, 2011 by calling ERG at 781-674-7374 or toll free at 800-803-2833 (ask for the Chesapeake Bay peer review coordinator, Laurie Waite), sending a facsimile to 781-674-2906 (please reference: “Chesapeake Bay peer review workshop” and include your name, title, affiliation, full address, and contact information, and whether you wish to make oral comments), or sending an e-mail to meetings@erg.com (subject line: “Chesapeake Bay peer review workshop” and include your name, title, affiliation, full address, and contact information, and whether you wish to make oral comments). You may also register via the Internet at https://www2.ergweb.com/projects/conferences/peerreview/register-chesapeake.htm. The draft “A Method to Assess Climate-Relevant Decisions: Application in the Chesapeake Bay” is available via the Internet on NCEA's home page under the Recent Additions and the Data and Publications menus at http://www.epa.gov/ncea. A limited number of paper copies are available from the Information Management Team (IMT), NCEA; telephone: 703-347-8561; facsimile: 703-347-8691. If you are requesting a paper copy, please provide your name, mailing address, and the document title, “A Method to Assess Climate-Relevant Decisions: Application in the Chesapeake Bay.” Copies are not available from ERG.

FOR FURTHER INFORMATION CONTACT: Questions regarding information, registration, access or services for individuals with disabilities, or logistics for the external peer review workshop should be directed to ERG, 110 Hartwell Avenue, Lexington, MA 02421-3136; telephone: 781-674-7374; facsimile: 781-674-2906; or e-mail: meetings@erg.com (subject line: Chesapeake Bay peer review workshop), preferably at least 10 days prior to the meeting, to give as much time as possible to process your request.

If you need technical information about the document, please contact Susan Julius, National Center for Environmental Assessment (NCEA); telephone: 703-347-8619; facsimile: 703-347-8694; e-mail Julius.susan@epa.gov.

SUPPLEMENTARY INFORMATION:

I. Summary of Information About the Project/Document

Climate change is a global phenomenon that affects natural and human systems in all parts of the world. The goal of this study was to develop a way to inventory and analyze management decisions to provide information to effectively adapt to climate change. This report will be useful to officials who make environmental management decisions related to the Chesapeake Bay.

The major steps of the approach used in this pilot study of the Chesapeake Bay Program were to: (1) Select a study area and compile a list of key decisions; (2) develop criteria for evaluating the climate-relevance of decisions; (3) apply the criteria to select decisions that are potentially sensitive to climate change; (4) solicit expert judgment regarding the decisions selected; and (5) test alternative prioritization schemes.

II. Workshop Information

Members of the public may attend the workshop as observers, and there will be a limited time for comments from the public in the afternoon. Please let ERG know if you wish to make comments during the workshop. Space is limited, and reservations will be accepted on a first-come, first-served basis.

Dated: January 19, 2011.
Joseph A. DeSantis,
Acting Director, National Center for Environmental Assessment.

[FR Doc. 2011-1468 Filed 1-24-11; 8:45 am]

BILLING CODE 6560-50-P